DEPARTMENT OF HEALTH AND HUMAN SERVICES

National Institutes of Health

Center for Scientific Review; Cancellation of Meeting

Notice is hereby given of the cancellation of the Pathogenic Eukaryotes Study Section, February 9, 2006, 8 a.m. to February 10, 2006, 5 p.m., Holiday Inn Georgetown, 2101 Wisconsin Avenue, NW., Washington, DC 20007 which was published in the Federal Register on January 24, 2006, 71 FR 3871-3873.

The meeting is cancelled due to a lack of quorum.

Dated: February 3, 2006.
Anna Snouffer,
Acting Director, Office of Federal Advisory Committee Policy.

[FR Doc. 06-1326 Filed 2-13-06; 8:45 am]

BILLING CODE 4140-01-M